DEPARTMENT OF COMMERCE

National Oceanic and Atmospheric Administration

[I.D. 082305D]

Gulf of Mexico Fishery Management Council; Public Meetings

AGENCY: National Marine Fisheries Service (NMFS), National Oceanic and Atmospheric Administration (NOAA), Commerce.

ACTION: Notice of public meetings.

SUMMARY: The Gulf of Mexico Fishery Management Council (Council) will convene public meetings.

DATES: The meetings will be held September 12 16, 2005.

ADDRESSES: These meetings will be held at the Wyndham Bourbon Orleans, 717 Orleans Street, New Orleans, LA 70116.

Council address: Gulf of Mexico Fishery Management Council, 2203 North Lois Avenue, Suite 1100, Tampa, FL 33607.

FOR FURTHER INFORMATION CONTACT: Wayne E. Swingle, Executive Director, Gulf of Mexico Fishery Management Council; telephone: (813) 348-1630.

SUPPLEMENTARY INFORMATION:

Council

Wednesday, September 14, 2005

1:30 p.m. Convene.

1:45 p.m. - 5 p.m. - Receive public testimony on (a) Final Reef Fish Amendment 18A/Environmental Assessment (EA), (b) Final Red Grouper Regulatory Amendment, and (c) Exempted fishing permits (if any).

5 p.m. - 5:15 p.m. - Receive the Budget/Personnel Committee Report.

5:15 p.m. - 5:30 p.m. - Receive the Mackerel Management Committee Report.

Thursday, September 15, 2005

8:30 a.m. - 11:30 a.m. - Receive the joint Reef Fish/Shrimp Management Committees Report.

1 p.m. - 3 p.m. - Receive the Reef Fish Management Committee Report.

3 p.m. - 3:30 p.m. - Receive the Migratory Species Management Committee Report.

3:30 p.m. - 4:30 p.m. - Receive the joint Reef Fish/Mackerel/Red Drum Committees Report.

4:30 p.m. - 5 p.m. - Receive the Administrative Policy Committee Report.

Friday, September 16, 2005

8:30 a.m. - 8:45 a.m. - Receive the Enforcement Reports.

8:45 a.m. - 9 a.m. - Receive the Regional Administrator's Report.

9 a.m. - 9:30 a.m. - Receive the State Director's Reports.

9:30 a.m. - 10 a.m. - Other Business.

10 a.m. - 10:15 a.m. - Election of Chair and Vice-Chair.

Committee

Monday, September 12, 2005

8:30 a.m. - 12 noon - The Reef Fish Management Committee will review public hearing summaries, public letters, Advisory Panel (AP) recommendations, Scientific and Statistical Committee (SSC) recommendations, Federal recommendations and committee recommendations on Final Reef Fish Amendment 18A/EA, which addresses the grouper fishery and make recommendations to Council. The Committee will review Public Hearing Draft Reef Fish Amendment 26 for a red snapper individual fishing quota (IFQ) program and may modify their preferred alternatives for management measures for public hearings. The Committee will then review the Final Red Grouper Regulatory Amendment and make recommendations to Council.

1:30 p.m. - 5:30 p.m. - The joint Reef Fish/Shrimp Management Committees will review Red Snapper Management Scenarios based on the data provided by the new red snapper stock assessment conducted under the Southeast Data, Assessment and Review (SEDAR) process, which yields a peer-reviewed assessment. The Committees will review a scoping document for a Regulatory Amendment on bycatch reduction device (BRD) certification criterion and certification of new BRDs. The Committees will then review a scoping document for a joint Reef Fish/Shrimp amendment targeted at reducing shrimp trawl by-catch; bycatch in the directed reef fish fishery; and effort limitation alternatives for the shrimp fishery.

Tuesday, September 13, 2005

8 a.m. - 9 a.m. - The joint Reef Fish/Shrimp Committees will reconvene to complete their work.

9 a.m. - 9:30 a.m. - The Mackerel Management Committee will meet to discuss setting a control date for the Spanish mackerel fisheries.

9:30 a.m. - 10 a.m. - The Budget/Personnel Committee will meet to review the Council's CY 2006 Operating Budget.

10 a.m. - 11:30 a.m. - The Migratory Species Management Committee will hear a presentation on a proposed highly migratory species (HMS) amendment.

Wednesday, September 14, 2005

8:30 a.m. - 10 a.m. - The Administrative Policy Committee will meet to review current SSC Operations. They will also discuss the possibility of holding a Joint SSC/Council meeting and a Joint AP/Council Meeting. The Committee will then consider a 2-year term for Council Chair and Vice-Chair, and discuss the pros and cons of limiting Council meetings to 4 or 5 per year.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Dawn Aring at the Council (see ADDRESSES) by September 1, 2005.

Dated: August 24, 2005.
Alan D. Risenhoover,
Acting Director, Office of Sustainable Fisheries, National Marine Fisheries Service.

[FR Doc. E5-4719 Filed 8-29-05; 8:45 am]

BILLING CODE 3510-22-S